DEPARTMENT OF TRANSPORTATION

Surface Transportation Board

[STB Finance Docket No. 34534]

Columbia & Reading Railway Co.—Acquisition Exemption—Frank Sahd Salvage Center, Inc.

Columbia & Reading Railway Co. (CRRC), a noncarrier, has filed a verified notice of exemption under 49 CFR 1150.31 to acquire from Frank Sahd Salvage Center, Inc. (Sahd Salvage) approximately 2.5 miles of rail line, from milepost 39.3 in the Borough of Columbia to milepost 37.2 in West Hempfield Township in Lancaster County, PA. Sahd Salvage has agreed to transfer the rail line to CRRC so that it may develop common carrier rail operations, which will be provided by a to be determined third party. CRRC is a corporate affiliate of Sahd Salvage.

CRRC certifies that its projected annual revenues will not exceed those that would qualify it as a Class III rail carrier and that its annual revenues are not projected to exceed $5 million.

CRRC states that the parties intended to consummate the transaction on or about August 9, 2004, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34534, must be filed with the Surface Transportation Board, 1925 K Street NW., Washington, DC 20423-0001. In addition, one copy of each pleading must be served on Jeffrey O. Moreno, Esq, 1920 N Street, NW., Suite 800, Washington, DC 20036.

Board decisions and notices are available on the Board's Web site at http://www.stb.dot.gov.

Decided: August 20, 2004.
By the Board, David M. Konschnik, Director, Office of Proceedings.
Vernon A. Williams,
Secretary.

[FR Doc. 04-19624 Filed 8-26-04; 8:45 am]

BILLING CODE 4915-01-P